DEPARTMENT OF THE TREASURY

Submission for OMB Review; Comment Request

May 10, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 18, 2004, to be assured of consideration.

Internal Revenue Service (IRS)

OMB Number: 1545-0137.

Form Number: IRS Form 2032.

Type of Review: Extension.

Title: Contract Coverage under Title II of the Social Security Act.

Description: American employers can enter into an agreement to extend social security coverage to U.S. citizens and resident aliens employed abroad by foreign affiliates.

Respondents: Individuals or households, Business or other for-profit.

Estimated Number of Respondents/Recordkeepers: 160.

Estimated Burden Hours Respondent/Recordkeeper:

Recordkeeping—2 hr., 9 min.

Learning about the law or the form—35 min.

Preparing and sending the form to the IRS—39 min.

Frequency of response: On occasion.

Estimated Total Reporting/Recordkeeping Burden: 546 hours.

OMB Number: 1545-0201.

Form Number: IRS Form 5308.

Type of Review: Extension.

Title: Request for Change in Plan/Trust Year.

Description: Form 5308 is used to request permission to change the plan or trust year for a pension benefit plan. The information submitted is used in determining whether IRS should grant permission for the change.

Respondents: Business or other for-profit.

Estimated Number of Respondents/Recordkeepers: 480.

Estimated Burden Hours Respondent/Recordkeeper: 41 minutes.

Frequency of response: On occasion.

Estimated Total Reporting/Recordkeeping Burden: 325 hours.

OMB Number: 1545-0757.

Regulation Project Number: LR-209-76 Final.

Type of Review: Extension.

Title: Special Lien for Estate Taxes Deferred Under Section 6166 or 6166A.

Description: Section 632A permits the executor of a decedent's estate to elect a lien on section 6166 property in favor of the United States in lieu of a bond or personal liability if an election under section 6166 was made and the executor files an agreement under section 6324A(c).

Respondents: Individuals or households, Business or other for-profit.

Estimated Number of Respondents: 34,600.

Estimated Burden Hours Respondent: 15 minutes.

Frequency of Response: Other (non-recurring).

Estimated Total Reporting Burden: 8,650 hours.

OMB Number: 1545-1189.

Form Number: IRS Form 8819.

Type of Review: Extension.

Title: Dollar Election under Section 985.

Description: Form 8819 is filed by U.S. and foreign businesses to elect the U.S. dollar as their functional currency or as the functional currency of their controlled entities. The IRS uses Form 8819 to determine if the election is properly made.

Respondents: Business or other for-profit.

Estimated Number of Respondents/Recordkeepers: 500.

Estimated Burden Hours Respondent/Recordkeeper:

Recordkeeping—4 hr., 32 min.

Learning about the law or the form—53 min.

Preparing and sending the form to the IRS—1 hr., 0 min.

Frequency of response: On occasion.

Estimated Total Reporting/Recordkeeping Burden: 3,220 hours.

Clearance Officer: Glenn P. Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Treasury PRA Clearance Officer.

[FR Doc. 04-11330 Filed 5-18-04; 8:45 am]

BILLING CODE 4830-01-P